DEPARTMENT OF LABOR

Employment and Training Administration

[NAFTA-4668]

Johnson & Johnson Medical, Inc., El Paso, TX; Notice of Termination of Investigation

Pursuant to Title V of the North American Free Trade Agreement Implementation Act (Pub. L. 103-1 concerning transitional adjustment assistance, hereinafter called NAFTA-TAA and in accordance with section 250(a), Subchapter D, Chapter 2, Title II, of the Trade Act of 1974, as amended (19 U.S.C. 2331), an investigation was initiated on March 26, 2001, in response to a petition filed on behalf of workers at Johnson & Johnson Medical, Inc., El Paso, Texas. The subject firm produces disposable surgical products (aprons, drapes, packs).

The petitioning workers work at a production facility outside of the United States and consequently have no standing to file a petition. Consequently, further investigation in this case would serve no purpose; and the investigation has been terminated.

A petition for Trade Adjustment Assistance has been filed on behalf of workers at the subject firm (TA-W-38, 932). A determination on that petition will be made concurrently with this determination.

Signed in Washington, DC, this 8th day of May, 2001.
Linda G. Poole,
Certifying Officer, Division of Trade Adjustment Assistance.

[FR Doc. 01-13001 Filed 5-22-01; 8:45 am]

BILLING CODE 4510-30-M